DEPARTMENT OF ENERGY

Federal Energy Regulatory Commission

Notice of Application for Amendment of License and Soliciting Comments, Motions to Intervene, and Protests

December 28, 2000.

Take notice that the following application has been filed with the Commission and is available for public inspection:

a. Application Type: Amendment of License to Change Project Boundary and Approve Revised Exhibits.

b. Project No: 2174-010.

c. Date Filed: January 12, 2000, and November 9, 2000.

d. Applicant: Southern California Edison Company.

e. Name of Project: Portal Water Power.

f. Location: The project is located on the Rancheria Creek and Big Creek, in Fresno County, California.

g. Filed Pursuant to: Federal Power Act, 16 USC 791(a), 825(r), 799 and 801.

h. Applicant Contact: Stephen E. Pickett, Vice President and General Council, Southern California Edison Company, 2244 Walnut Grove Avenue, P.O. Box 800, Rosemead, CA 91770, (626) 302-4459.

i. FERC Contact: Any questions on this notice should be addressed to Mr. Mohamad Fayyad at (202) 219-2665, or e-mail address: mohamad.fayyad@ferc.fed.us.

j. Deadline for filing comments and or motions: February 2, 2001.

All documents (original and eight copies) should be filed with: David P. Boergers, Secretary, Federal Energy Regulatory Commission, 888 First Street, NE., Washington DC 20426.

Please include the project number (P-2174-010) on any comments or motions filed.

k. Description of Request: SCE is proposing to delete from the license the 7.58-mile-long, 33-kV Big Creek #1—Portal transmission line, which SCE says is part of its interconnected transmission system. The subject transmission line occupies 47.05 acres of federal lands. In addition, SCE is proposing to include within the project boundary an existing forebay control line. This would increase the amount of federal lands within the project boundary by 11.11 acres. SCE says that due to a more accurate computer mapping, the revised acreage of federal lands within the project boundary is 126.6 acres.

l. Locations of the Application: A copy of the application is available for inspection and reproduction at the Commission's Public Reference Room, located at 888 First Street, NE, Room 2A, Washington, DC 20426, or by calling (202) 208-1371. This filing may be viewed on http://www.ferc.fed.us/online/rims.htm (call (202) 208-2222 for assistance). A copy is also available for inspection and reproduction at the address in item (h) above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

n. Comments and protests may be filed electronically via the Internet in lieu of paper. See, 18 CFR 385.2001(a)(1)(iii) and the instructions on the Commission's web site at http://www.ferc.fed.us/efi/doorbell.htm

Linwood A. Watson, Jr.,
Acting Secretary.

[FR Doc. 01-170 Filed 1-3-01; 8:45 am]

BILLING CODE 6717-01-M